FEDERAL RESERVE SYSTEM

Change in Bank Control Notices; Acquisitions of Shares of Banks or Bank Holding Companies; Correction

This notice corrects a notice (FR Doc. 00-15701) published on pages 38831 and 38832 of the issue for Thursday, June 22, 2000.

Under the Federal Reserve Bank of Chicago heading, the entry for Michael Robert Reese, Appleton, Wisconsin, is revised to read as follows:

A. Federal Reserve Bank of Chicago (Phillip Jackson, Applications Officer) 230 South LaSalle Street, Chicago, Illinois 60690-1414:

1. Michael Robert Reese, Appleton, Wisconsin; to acquire voting shares of Fox River Valley Bancorp, Inc., Appleton, Wisconsin, and thereby indirectly acquire voting shares of First Business Bank of Fox River Valley, Appleton, Wisconsin.

Comments on this application must be received by July 6, 2000.

Board of Governors of the Federal Reserve System, June 28, 2000.
Robert deV. Frierson,
Associate Secretary of the Board.

[FR Doc. 00-16835 Filed 7-3-00; 8:45 am]

BILLING CODE 6210-01-P